DEPARTMENT OF ENERGY

Federal Energy Regulatory Commission

Combined Notice of Filings #1

Take notice that the Commission received the following exempt wholesale generator filings:

Docket Numbers: EG25-384-000.

Applicants: Great Prairie Energy Storage, LLC.

Description: Great Prairie Energy Storage, LLC submits Notice of Self-Certification of Exempt Wholesale Generator Status.

Filed Date: 7/10/25.

Accession Number: 20250710-5128.

Comment Date: 5 p.m. ET 7/31/25.

Docket Numbers: EG25-385-000.

Applicants: Alpaugh BESS, LLC.

Description: Alpaugh BESS, LLC submits Notice of Self-Certification of Exempt Wholesale Generator Status.

Filed Date: 7/11/25.

Accession Number: 20250711-5071.

Comment Date: 5 p.m. ET 8/1/25.

Take notice that the Commission received the following electric rate filings:

Docket Numbers: ER24-2017-002.

Applicants: PacifiCorp.

Description: Compliance filing: Order Nos. 2023 et al Second Compliance Filing to be effective 7/14/2025.

Filed Date: 7/11/25.

Accession Number: 20250711-5068

Comment Date: 5 p.m. ET 8/1/25.

Docket Numbers: ER24-2459-003.

Applicants: Tenaska Virginia Partners, L.P.

Description: Compliance filing: Informational Filing Regarding Upstream Transfer of Ownership to be effective N/A.

Filed Date: 7/10/25.

Accession Number: 20250710-5122.

Comment Date: 5 p.m. ET 7/31/25.

Docket Numbers: ER25-1933-001.

Applicants: ITC Energy Solutions LLC.

Description: Tariff Amendment: Response to Deficiency Letter, Request for Shortened Comment Period to be effective 6/11/2025.

Filed Date: 7/10/25.

Accession Number: 20250710-5109.

Comment Date: 5 p.m. ET 7/31/25.

Docket Numbers: ER25-2232-002.

Applicants: Illinois Generation LLC.

Description: Tariff Amendment: Request to Defer Action on Shared Facilities Agreement to be effective 12/31/9998.

Filed Date: 7/11/25.

Accession Number: 20250711-5127.

Comment Date: 5 p.m. ET 8/1/25.

Docket Numbers: ER25-2234-001.

Applicants: Heritage Prairie Solar LLC.

Description: Tariff Amendment: Request to Defer Action on Certificate of Concurrence to SFA to be effective 12/31/9998.

Filed Date: 7/11/25.

Accession Number: 20250711-5132.

Comment Date: 5 p.m. ET 8/1/25.

Docket Numbers: ER25-2284-001.

Applicants: American Electric Power Service Corporation, Ohio Power Company.

Description: Tariff Amendment: Ohio Power Company submits tariff filing per 35.17(b): AEP submits Amendment to revised ILDSA—SA No. 1420 ATT 1 to be effective 10/1/2025.

Filed Date: 7/11/25.

Accession Number: 20250711-5142.

Comment Date: 5 p.m. ET 8/1/25.

Docket Numbers: ER25-2826-000.

Applicants: ORNI 30 LLC.

Description: Initial Rate Filing: Petition for Approval of Initial Market-Based Rate Tariff to be effective 7/11/2025.

Filed Date: 7/10/25.

Accession Number: 20250710-5111.

Comment Date: 5 p.m. ET 7/31/25.

Docket Numbers: ER25-2827-000.

Applicants: FirstEnergy Service Company, The Potomac Edison Company.

Description: § 205(d) Rate Filing: The Potomac Edison Company submits tariff filing per 35.13(a)(2)(iii: Potomac Edison's Request for Order Authorizing Abandoned Plant Incentive to be effective 9/10/2025.

Filed Date: 7/11/25.

Accession Number: 20250711-5018.

Comment Date: 5 p.m. ET 8/1/25.

Docket Numbers: ER25-2828-000.

Applicants: American Transmission Systems, Incorporated.

Description: § 205(d) Rate Filing: ATSI submits Amended CAs, SA No. 7170, 7171, 7178 to be effective 9/10/2025.

Filed Date: 7/11/25.

Accession Number: 20250711-5030.

Comment Date: 5 p.m. ET 8/1/25.

Docket Numbers: ER25-2829-000.

Applicants: New York State Electric & Gas Corporation, New York Independent System Operator, Inc.

Description: § 205(d) Rate Filing: New York Independent System Operator, Inc. submits tariff filing per 35.13(a)(2)(iii: NYISO-NYSEG Joint 205: Standard IA Brookside Solar (SA2899) (CEII) to be effective 6/26/2025.

Filed Date: 7/11/25.

Accession Number: 20250711-5036.

Comment Date: 5 p.m. ET 8/1/25.

Docket Numbers: ER25-2830-000.

Applicants: Southwest Power Pool, Inc., ITC Great Plains, LLC.

Description: § 205(d) Rate Filing: ITC Great Plains, LLC submits tariff filing per 35.13(a)(2)(iii: 4419 Clark County Solar & ITCGP Facilities Service Agr to be effective 9/10/2025.

Filed Date: 7/11/25.

Accession Number: 20250711-5049.

Comment Date: 5 p.m. ET 8/1/25.

Docket Numbers: ER25-2831-000.

Applicants: Southwest Power Pool, Inc., ITC Great Plains, LLC.

Description: § 205(d) Rate Filing: ITC Great Plains, LLC submits tariff filing per 35.13(a)(2)(iii: 4420 Clark County Storage & ITCGP Facilities Service Agr to be effective 9/10/2025.

Filed Date: 7/11/25.

Accession Number: 20250711-5050.

Comment Date: 5 p.m. ET 8/1/25.

Docket Numbers: ER25-2832-000.

Applicants: PJM Interconnection, L.L.C.

Description: § 205(d) Rate Filing: Amendment to GIA, SA No. 7509; Project Identifier No. AF1-268 to be effective 9/10/2025.

Filed Date: 7/11/25.

Accession Number: 20250711-5069.

Comment Date: 5 p.m. ET 8/1/25.

Docket Numbers: ER25-2833-000.

Applicants: PacifiCorp.

Description: § 205(d) Rate Filing: Enhancements to PacifiCorp Large Generator Interconnection Procedures to be effective 9/9/2025.

Filed Date: 7/11/25.

Accession Number: 20250711-5070.

Comment Date: 5 p.m. ET 8/1/25.

Docket Numbers: ER25-2834-000.

Applicants: Trade Post Solar LLC.

Description: Initial Rate Filing: Shared Facilities Agreement to be effective 9/10/2025.

Filed Date: 7/11/25.

Accession Number: 20250711-5077.

Comment Date: 5 p.m. ET 8/1/25.

Docket Numbers: ER25-2835-000.

Applicants: Alabama Power Company, Georgia Power Company, Mississippi Power Company.

Description: § 205(d) Rate Filing: Alabama Power Company submits tariff filing per 35.13(a)(2)(iii: Three Rocks Solar Amended and Restated LGIA Filing to be effective 6/27/2025.

Filed Date: 7/11/25.

Accession Number: 20250711-5095.

Comment Date: 5 p.m. ET 8/1/25.

Docket Numbers: ER25-2836-000.

Applicants: Alabama Power Company, Georgia Power Company, Mississippi Power Company.

Description: § 205(d) Rate Filing: Alabama Power Company submits tariff filing per 35.13(a)(2)(iii: West Fork Solar Amended and Restated LGIA Filing to be effective 6/27/2025.

Filed Date: 7/11/25.

Accession Number: 20250711-5096.

Comment Date: 5 p.m. ET 8/1/25.

Docket Numbers: ER25-2837-000.

Applicants: Northern States Power Company, a Minnesota corporation.

Description: § 205(d) Rate Filing: 2025-07-11 CapX—Fargo 4—LRTP—CMA—727 to be effective 6/13/2025.

Filed Date: 7/11/25.

Accession Number: 20250711-5105.

Comment Date: 5 p.m. ET 8/1/25.

Docket Numbers: ER25-2838-000.

Applicants: Northern States Power Company, a Minnesota corporation.

Description: § 205(d) Rate Filing: 2025-07-11 CapX—Fargo 4—LRTP—OMA—307 to be effective 6/13/2025.

Filed Date: 7/11/25.

Accession Number: 20250711-5117.

Comment Date: 5 p.m. ET 8/1/25.

Docket Numbers: ER25-2839-000.

Applicants: Northern States Power Company, a Minnesota corporation.

Description: § 205(d) Rate Filing: 2025-07-11 Big Oaks—Underbuild Owner Agrmt—775 to be effective 6/13/2025.

Filed Date: 7/11/25.

Accession Number: 20250711-5125.

Comment Date: 5 p.m. ET 8/1/25.

Docket Numbers: ER25-2840-000.

Applicants: Tenaska Virginia Partners, L.P.

Description: Request for Limited Tariff Waiver of the 90-day prior notice requirement set forth in Schedule 2 to the PJM OATT of Tenaska Virginia Partners, L.P.

Filed Date: 7/10/25.

Accession Number: 20250710-5138.

Comment Date: 5 p.m. ET 7/31/25.

Docket Numbers: ER25-2841-000.

Applicants: PJM Interconnection, L.L.C.

Description: § 205(d) Rate Filing: Amendment to ISA, SA No. 7038; Queue No. AE2-047 to be effective 9/10/2025.

Filed Date: 7/11/25.

Accession Number: 20250711-5138.

Comment Date: 5 p.m. ET 8/1/25.

Docket Numbers: ER25-2842-000.

Applicants: Northern States Power Company, a Minnesota corporation.

Description: § 205(d) Rate Filing: 2025-07-11 CapX—Fargo 4—LRTP—TCEA—281 to be effective 6/13/2025.

Filed Date: 7/11/25.

Accession Number: 20250711-5139.

Comment Date: 5 p.m. ET 8/1/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 11, 2025.
Carlos D. Clay,
Deputy Secretary.

[FR Doc. 2025-13299 Filed 7-15-25; 8:45 am]

BILLING CODE 6717-01-P